DEPARTMENT OF STATE

[Public Notice 5221]

Shipping Coordinating Committee; Notice of Meeting

The Shipping Coordinating Committee (SHC) through the Subcommittee on Standards of Training, Certification and Watchkeeping will conduct an open meeting at 9:30 A.M. on January 17, 2006. The meeting will be held in Room 6103 of the United States Coast Guard Headquarters Building, 2100 Second Street, SW., Washington, DC 20593-0001. The purpose of the meeting is to prepare for the 37th session of the International Maritime Organization (IMO) Sub-Committee on Standards of Training and Watchkeeping (STW 37) to be held on January 23-27, 2006, at the IMO Headquarters in London, England.

The primary matters to be considered include:

—Measures to enhance maritime security, training and certification for ship, company and port facility security officers;

—Unlawful practices associated with certificates of competency;

—Large passenger ship safety;

—Measures to prevent accidents with lifeboats;

—Education and training requirements for fatigue prevention, mitigation, and management;

—Training requirements for the control and management of ship's ballast water and sediments; and

—Development of competences for ratings.

Please note that hard copies of documents associated with STW 37 will not be available at this meeting, the documents will be available at the meeting in portable document format (.pdf) on CD-ROM. To request documents before the meeting please write to the address provided below, and include your name, address, phone number, and electronic mail address. Copies of the papers will be sent via electronic mail to the address provided.

Members of the public may attend the meeting up to the seating capacity of the room. Interested persons may seek information by writing: Luke Harden, U.S. Coast Guard (G-MSO-1), Room 1210, 2100 Second Street, SW., Washington, DC 20593-0001 or by calling: (202) 267-1838.

Dated: December 16, 2005.
Clay Diamond,
Executive Secretary, Shipping Coordinating Committee, Department of State.

[FR Doc. 05-24523 Filed 12-27-05; 8:45 am]

BILLING CODE 4710-09-P